DEPARTMENT OF TRANSPORTATION

Federal Motor Carrier Safety Administration

[Docket No. FMCSA-2007-27209]

Notice of Request for Comments on New Information Collection: Survey of Medical Examiners Who Certify the Physical Qualifications of Commercial Motor Vehicle (CMV) Drivers

AGENCY: Federal Motor Carrier Safety Administration (FMCSA), DOT.

ACTION: Notice; request for information.

SUMMARY: In accordance with the Paperwork Reduction Act of 1995, FMCSA announces its plan to submit the Information Collection Request (ICR) described below to the Office of Management and Budget (OMB) for review and approval. The ICR describes a proposed collection activity and its expected cost and burden. The Federal Register notice allowing for a 60-day comment period on the ICR was published on June 19, 2006 (71 FR 35324). Four comments were received in response to the notice. Two individuals supported the proposed information collection and two commented on matters outside of the scope of the proposed information collection. These comments are addressed in the ICR that will be submitted to OMB.

DATES: Please send your comments by May 2, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Dr. Mary D. Gunnels, Office of Bus and Truck Standards and Operations, Physical Qualifications Division, Department of Transportation, Federal Motor Carrier Safety Administration, 400 Seventh Street, SW., Washington, DC 20590-0001. Telephone: 202-366-4001, e-mail maggi.gunnels@fmcsa.dot.gov. Office hours are from 8:30 a.m. to 5 p.m., Eastern Time, Monday through Friday, except Federal holidays.

SUPPLEMENTARY INFORMATION: Title: Survey of Medical Examiners Who Certify the Physical Qualifications of Commercial Motor Rehicle Drivers.

OMB Control Number: 2126-xxxx.

Type of Request: New information collection.

Respondents: Medical examiners: Advanced Practice Nurses (APNs), Doctors of Chiropractic (DCs), Doctors of Osteopathy (DOs), Medical Doctors (MDs), and Physician Assistants (PAs) who are currently performing FMCSA physical examinations of CMV drivers.

Estimated Number of Respondents: 4,300 respondents [4,000 respondents for the survey + 300 respondents (150 medical examiners + 150 drivers per on-site observation) = 4,300 respondents].

Estimated Time per Response: 30 minutes to complete the survey and 5 minutes each for the medical examiner and driver to complete the observation consent forms.

Expiration Date: N/A. This is a new information collection.

Frequency of Response: This is a one-time survey.

Estimated Total Annual Burden: 2,025 hours. The estimated annual burden is 2,000 hours for the completion of the survey based on the following requirement for statistical significance: 800 responses from each of at least five of the medical examiner professional categories; [4,000 respondents per survey × 30 minutes/60 minutes per respondent = 2,000 hours]. Observation consent forms—The estimated annual burden is 25 hours for the completion of the observation consent forms based on the following requirement for statistical significance: [300 respondents (150 medical examiners + 150 drivers) × 5 minutes/60 minutes per on-site observation = 25 hours]. The estimated total annual burden is 2,025 hours [2,000 hours for completion of the survey + 25 hours for completion of the observation consent forms = 2,025 hours].

Background

FMCSA estimates that there are approximately four to five million active interstate drivers subject to FMCSA's medical standards. Interstate CMV drivers are required to have a medical examination every two years at a minimum or more frequently at the discretion of the medical examiner. A medical certificate is typically valid for two years after the date of examination, so it is estimated that a minimum of two to three million medical examinations are conducted each year. In the Safe, Accountable, Flexible, Efficient Transportation Equity Act: A Legacy for Users (SAFETEA-LU) (Pub. L. 109-59, 119 Stat. 1144; August 10, 2005) Congress supports comprehensive improvements in the FMCSA medical program, including improving the quality of the interstate CMV driver physical qualification examination. There has been no research to date that captures the decisionmaking and performance of medical examiners who determine the physical qualifications of CMV drivers operating throughout the United States. In addition, there has been no systematic consideration of medical examiner perceptions of difficulties or uncertainties associated with the examination process.

A Working Integrated Product Team (WIPT) of medical examiner peers experienced in conducting CMV driver physical qualification examinations will review the methodology and materials for the study, and data gained from 150 direct observations of physical examinations of CMV drivers. Results of the Medical Examiner Performance Study would ultimately be used to develop recommendations for improving the overall physical qualification process and achieve FMCSA's goals of reducing crash rates, injuries, and fatalities involving large trucks and buses.

This initiative is separate from the earlier National Registry of Certified Medical Examiner survey announced on September 29, 2005 (70 FR 56964), the primary intent of which is to identify those tasks most critical to competent job performance via a role delineation study.

Public Comments Invited: We particularly request comments on: The necessity of the collection of information for FMCSA to meet its goal of reducing truck and bus crashes and its usefulness to this goal; the accuracy of the estimate of the burden of the information collection; ways to enhance the quality, utility and clarity of the information collected; and ways to minimize the burden of the collection of information on respondents, including using automated collection techniques or other forms of information technology.

Issued on: March 20, 2007.
Rose A. McMurray,
Chief Safety Officer, Assistant Administrator.

[FR Doc. E7-5741 Filed 3-30-07; 8:45 am]

BILLING CODE 4910-EX-P